ENVIRONMENTAL PROTECTION AGENCY

[FRL-9989-01-OA; EPA-HQ-OA-2022-0050]

White House Environmental Justice Advisory Council; Notification of Virtual Public Meeting

AGENCY: Environmental Protection Agency (EPA).

ACTION: Notification for a public meeting.

SUMMARY: Pursuant to the Federal Advisory Committee Act (FACA), the U.S. Environmental Protection Agency (EPA) hereby provides notice that the White House Environmental Justice Advisory Council (WHEJAC) will meet on the dates and times described below. The meeting is open to the public. Members of the public are encouraged to provide comments relevant to federal disaster preparedness and relief and community resilience. For additional information about registering to attend the meetings or to provide public comment, please see “REGISTRATION” under SUPPLEMENTARY INFORMATION. Pre-registration is required.

DATES: The WHEJAC will hold a virtual public meeting on Wednesday, August 3, 2022, and Thursday, August 4, 2022, from approximately 3:00 p.m.-7:30 p.m., Eastern Time, each day. A public comment period relevant to the development of an annual public performance scorecard and the types of indicators or data that would be useful in a scorecard will be considered by the WHEJAC during the meeting on August 3, 2022. (see SUPPLEMENTARY INFORMATION). Members of the public who wish to participate during the public comment period must pre-register by 11:59 p.m., Eastern Time, July 27, 2022.

FOR FURTHER INFORMATION CONTACT: Victoria Robinson, WHEJAC Designated Federal Officer, U.S. EPA; email: whejac@epa.gov; telephone: (202) 564-6349. Additional information about the WHEJAC is available at https://www.epa.gov/environmentaljustice/white-house-environmental-justice-advisory-council.

SUPPLEMENTARY INFORMATION: The meeting discussion will focus on draft recommendations related to climate resilience, the beta version of the Climate and Economic Justice Screening Tool, and the implementation of the Justice40 Initiative.

The Charter of the WHEJAC states that the advisory committee will provide independent advice and recommendations to the Chair of the CEQ and to the White House Environmental Justice Interagency Council (IAC). The WHEJAC will provide advice and recommendations about broad cross-cutting issues, related but not limited to, issues of environmental justice and pollution reduction, energy, climate change mitigation and resiliency, environmental health, and racial inequity. The WHEJAC's efforts will include a broad range of strategic, scientific, technological, regulatory, community engagement, and economic issues related to environmental justice.

Registration: Individual registration is required for the virtual public meeting. Information on how to register is located at https://www.epa.gov/environmentaljustice/white-house-environmental-justice-advisory-council. Registration for the meeting is available through the scheduled end time of the meeting. Registration to speak during the public comment period will close 11:59 p.m., Eastern Time, on July 27, 2022. When registering, please provide your name, organization, city and state, and email address for follow up. Please also indicate whether you would like to provide public comment during the meeting, and whether you are submitting written comments at the time of registration.

A. Public Comment

The WHEJAC is interested in receiving public comments specific to the development of an annual public performance scorecard and the types of indicators or data that would be useful in a scorecard. This scorecard will provide a method for evaluation and accountability to assess the Federal Government's progress in addressing current and historic environmental injustice. Every effort will be made to hear from as many registered public commenters during the time specified on the agenda. Individuals or groups making remarks during the public comment period will be limited to three (3) minutes. Please be prepared to briefly describe your issue and what you want the WHEJAC to advise CEQ and IAC to do. Submitting written comments for the record are strongly encouraged. You can submit your written comments in three different ways, (1.) by creating comments in the Docket ID No. EPA-HQ-OA-2022-0050 at http://www.regulations.gov, (2.) by using the webform at https://www.epa.gov/environmentaljustice/forms/white-house-environmental-justice-advisory-council-whejac-public-comment, and (3.) by sending comments via email to whejac@epa.gov. Written comments can be submitted through August 18, 2022.

B. Information About Services for Individuals With Disabilities or Requiring English Language Translation Assistance

For information about access or services for individuals requiring assistance, please contact Victoria Robinson via email at whejac@epa.gov or contact by phone at (202) 564-6349. To request special accommodations for a disability or other assistance, please submit your request at least seven (7) working days prior to the meeting, to give EPA sufficient time to process your request. All requests should be sent to the email listed in the FOR FURTHER INFORMATION CONTACT section.

Matthew Tejada,
Director for the EPA Office of Environmental Justice.

[FR Doc. 2022-14395 Filed 7-6-22; 8:45 am]

BILLING CODE 6560-50-P